DEPARTMENT OF COMMERCE

National Oceanic and Atmospheric Administration

[I.D. 101106F]

Schedule for Protected Species Safe Handling, Release, and Identification Workshops

AGENCY: National Marine Fisheries Service (NMFS), National Oceanic and Atmospheric Administration (NOAA), Commerce.

ACTION: Notice.

SUMMARY: NMFS announces the first round of Protected Species Safe Handling, Release, and Identification Workshops. The workshops will be held in November and December 2006 and are mandatory for vessel owners and operators who use bottom longline, pelagic longline, or shark gillnet gear, and have also been issued shark or swordfish limited access permits. Vessel owners and operators whose permits expire in January 2007 must attend a workshop in 2006. Additional workshops will be held throughout 2007; however, vessel owners and operators whose permits expire in the winter or spring of 2007 are welcome to attend the first round of workshops in 2006.

DATES: Six workshops will be held between November 6, 2006, and December 14, 2006. See SUPPLEMENTARY INFORMATION for further details.

ADDRESSES: The workshops will be held in Dedham, MA; Manahawkin, NJ; Manteo, NC; Seminole, FL; Daytona Beach, FL; and Kenner, LA. See SUPPLEMENTARY INFORMATION for further details on workshop locations.

The workshop schedule and a list of frequently asked questions regarding these workshops are posted on the internet at: http://www.nmfs.noaa.gov/sfa/hms/workshops/.

FOR FURTHER INFORMATION CONTACT: For further information regarding the workshop requirement, please contact Greg Fairclough by phone: (727) 824-5399, or by fax: (727) 824-5398.

SUPPLEMENTARY INFORMATION: Effective January 1, 2007, shark limited access and swordfish limited access permit holders must submit a copy of their Safe Handling, Release, and Identification Workshop certificate in order to renew either permit (71 FR 58057; October 2, 2006). As such, vessel owners whose permits expire in January 2007 must attend one of the six free workshops offered in 2006. Vessel owners and operators whose permits expire in the winter or spring of 2007 may attend a workshop in 2007 or one of the six workshops offered in 2006 (see schedule below). New shark and swordfish limited access permit applicants must attend a Safe Handling, Release, and Identification Workshop and submit a copy of their workshop certificate before such permits will be issued.

Workshop Dates, Times, and Locations

1. November 6, 2006 from 9 a.m. - 5 p.m. Holiday Inn- Terrace Room, 55 Ariadne Rd. (US 1a and I95/128), Dedham, MA 02026.

2. November 8, 2006 from 9 a.m. - 5 p.m. Holiday Inn- Main Ballroom, 151 Route 72 East, Manahawkin, NJ 08050.

3. November 15, 2006 from 9 a.m. - 5 p.m. Outer Banks Welcome Center on Roanoke Island- Curtis H. Creech Memorial Boardroom. One Visitor's Circle Center, Manteo, NC 27954.

4. December 6, 2006 from 9 a.m. - 5 p.m. Seminole Community Library at St. Petersburg College, Seminole Campus, 9200 113th Street N., Seminole, FL 33772.

5. December 8, 2006 from 9 a.m. - 5 p.m. Aquatic Release Conservation, 1870 Mason Ave., Daytona Beach, FL 32117.

6. December 14, 2006 from 9 a.m. - 5 p.m. New Orleans Airport Garden Inn. 4535 Williams Blvd., Kenner, LA 70065.

Registration

To sign up for a scheduled workshop, please contact Aquatic Release Conservation (877) 411-4272, 1870 Mason Ave., Daytona Beach, FL 32117.

In addition to certifying permit holders, all longline and gillnet vessel operators fishing with a limited access swordfish or limited access shark permit are required to attend the Safe Handling, Release, and Identification workshops. Vessels that have been issued a limited access swordfish or limited access shark permit may not fish unless both the vessel owner and operator have valid workshop certificates. Vessel operators must possess on board the vessel valid workshop certificates for both the vessel owner and the operator at all times.

To ensure the workshop certificate is linked to the correct permit, you will need to bring the following items with you to the workshop:

Individual vessel owners must bring: proof of identification, a copy of the appropriate permit(s), and a copy of the vessel registration or documentation.

Representatives of a business owned or co-owned vessel must bring: proof that the individual is an agent of the business, a copy of the applicable permit(s), and proof of identification.

Vessel operators must bring proof of identification.

Participants in the industry-sponsored workshops on safe handling and release of sea turtles that were held in Orlando, FL (April 8, 2005) and New Orleans, LA (June 27, 2005) will be issued a workshop certificate in December 2006 that will be valid for three years. Grandfathered permit holders must include a copy of this certificate when renewing limited access shark and limited access swordfish permits each year. Failure to provide a valid workshop certificate may result in a permit denial.

The Safe Handling, Release, and Identification Workshops are designed to teach longline and gillnet fishermen the required techniques for the safe handling and release of entangled and/or hooked protected species, such as sea turtles, marine mammals, and smalltooth sawfish. Identification of protected species will also be taught at these workshops in an effort to improve reporting. Additionally, individuals attending these workshops will gain a better understanding of the requirements for participating in these fisheries. The overall goal for these workshops is to provide participants the skills needed to reduce the mortality of protected species, which may prevent additional regulations on these fisheries in the future.

Authority: 16 U.S.C. 971 et seq. and 1801 et seq.

Dated: October 18, 2006.
James P. Burgess,
Acting Director, Office of Sustainable Fisheries, National Marine Fisheries Service.

[FR Doc. E6-17697 Filed 10-20-06; 8:45 am]

BILLING CODE 3510-22-S